FEDERAL COMMUNICATIONS COMMISSION

Sunshine Act Meeting; Open Commission Meeting; Thursday, November 13, 2003

November 6, 2003.

The Federal Communications Commission will hold an Open Meeting on the subjects listed below on Thursday, November 13, 2003, which is scheduled to commence at in Room TW-C305, at 445 12th Street, SW., Washington, DC.

Item No. | Bureau | Subject
1 | Wireline Competition | Title: Rural Health Care Support Mechanism (WC Docket No. 02-60). Summary: The Commission will consider a Report and Order, Order on Reconsideration, and Further Notice of Proposed Rulemaking regarding modifications to its rules to improve the effectiveness of the rural health care support mechanism, which provides discounts to rural health care providers to access modern telecommunications for medical and health purposes.
2 | Office of Engineering and Technology and International | The Office of Engineering and Technology and the International Bureau will report on the Commission's implementation of the results of the 2003 World Radiocommunication Conference.
3 | International | Title: Procedures to Govern the Use of Satellite Earth Stations on Board Vessels in the 5925-6425 MHz/3700-4200 MHz Bands and 14.0-14.5 GHz/11.7-12.2 GHz Bands (IB Docket No. 02-10). Summary: The Commission will consider a Notice of Proposed Rulemaking concerning Earth stations on board vessels that are used to provide broadband telecommunications services on passenger, government, cargo, and recreational vessels.
4 | Office of Engineering and Technology | Title: Revision of Parts 2 and 15 of the Commission's Rules to Permit Unlicensed National Information Infrastructure (UNII) devices in the 5 GHz band (ET Docket No. 03-122; RM-10371). Summary: The Commission will consider a Report and Order to provide an additional 255 MHz of spectrum for unlicensed wireless devices operating in the 5 GHz region of the spectrum.
5 | Office of Engineering and Technology | Title: Establishment of an Interference Temperature Metric to Quantify and Manage Interference to Expand Available Unlicensed Operation in Certain Fixed, Mobile and Satellite Frequency Bands. Summary: The Commission will consider a Notice of Inquiry and Notice of Proposed Rulemaking concerning the development and use of the interference temperature metric and for managing the transition from the current transmitter-based approach for interference management to the new interference temperature paradigm. The Commission will address interference temperature limits and procedures for assessing the interference for expanded unlicensed operation.
6 | Spectrum Policy Task Force | The Spectrum Policy Task Force will report on accomplishments and status of the implementation of recommendations in the Task Force Report one year after its release and will highlight ongoing and future spectrum policy reform initiatives.
7 | Wireless Telecommunications, International, and Wireline Competition | Title: Revision of the Commission's Rules to Ensure Compatibility with Enhanced 911 Emergency Calling Systems (CC Docket No. 94-102); and Amendment of Parts 2 and 25 to Implement the Global Mobile Personal Communications by Satellite (GMPCS) Memorandum of Understanding and Arrangements; Petition of the National Telecommunications and Information Administration to Amend Part 25 of the Commission's Rules to Establish Emissions Limits for Mobile and Portable Earth Stations Operating in the 1610-1660.5 MHz Band (IB Docket No. 99-67). Summary: The Commission will consider a Report and Order and Second Further Notice of Proposed Rulemaking concerning the scope of its enhanced 911 rules.

Additional information concerning this meeting may be obtained from Audrey Spivack or David Fiske, Office of Media Relations, (202) 418-0500; TTY 1-888-835-5322.

Audio/Video coverage of the meeting will be broadcast live over the Internet from the FCC's Audio/Video Events Web page at http://www.fcc.gov/realaudio.

For a fee this meeting can be viewed live over George Mason University's Capitol Connection. The Capitol Connection also will carry the meeting live via the Internet. To purchase these services call (703) 993-3100 or go to http://www.capitolconnection.gmu.edu. Audio and video tapes of this meeting can be purchased from CACI Productions, 341 Victory Drive, Herndon, VA 20170, (703) 834-1470, Ext. 19; Fax (703) 834-0111.

Copies of materials adopted at this meeting can be purchased from the FCC's duplicating contractor, Qualex International (202) 863-2893; Fax (202) 863-2898; TTY (202) 863-2897. These copies are available in paper format and alternative media, including large print/type; digital disk; and audio tape. Qualex International may be reached by e-mail at Qualexint@aol.com.

Federal Communications Commission.
Marlene H. Dortch,
Secretary.

[FR Doc. 03-28455 Filed 11-7-03; 3:08 pm]

BILLING CODE 6712-01-P